DEPARTMENT OF ENERGY

Federal Energy Regulatory Commission

[Docket No. AD16-3-000]

Notice of Availability of the Draft Guidance Manual for Environmental Report Preparation and Request for Comments

The staff of the Office of Energy Projects (OEP) has revised its Guidance Manual for Environmental Report Preparation (Guidance Manual), dated August 2002, to incorporate regulation changes and provide updated guidance on how to prepare resource reports and how interstate and liquefied natural gas (LNG) projects may demonstrate compliance with certain regulatory requirements. The staff is asking for public input and suggestions for modifications to the Guidance Manual from federal and state agencies, Native American tribes, environmental consultants, inspectors, the natural gas industry, construction contractors, and other interested parties with special expertise in regards to preparation of resource reports associated with natural gas projects. Please note that this comment period will close on January 19, 2016.

The OEP staff anticipates issuing our final updated version of the Guidance Manual in early 2016. We will consider all timely comments on the draft before issuing the final version.

The revised Guidance Manual, for which we are seeking comment, can be found in Docket Number AD16-3-000. The full text of the 2002 version of the Guidance Manual can be viewed on the Federal Energy Regulatory Commission (FERC or Commission) Web site at http://www.ferc.gov/industries/gas/enviro/guidelines.asp and can be used as a reference to see the changes made.

Applicable sections of the Code of Federal Regulations Title 18 are referenced or summarized throughout the Guidance Manual. We stress that OEP staff is not seeking comment on any existing regulations or contemplating any changes to regulations within the context of the Guidance Manual. The Guidance Manual is not the appropriate vehicle for changes to federal regulations. Comments pertaining to our regulations will not be considered as we develop the final Guidance Manual.

The Guidance Manual is divided into two volumes. Volume 1 relates to the preparation of resource reports for both interstate natural gas projects and Commission jurisdictional LNG facilities. Volume 2 is specific to LNG facilities and includes supplemental information needed to comply with: 18 CFR 380.12(h)(5) to demonstrate information reflected in National Bureau of Standards Information Report (NBSIR) 84-2833; 18 CFR 380.12(m) to demonstrate the potential hazard to the public from failure of facility components resulting from natural catastrophes; and 18 CFR 380.12(o) to demonstrate the proposed engineering design would be safe and reliable and would likely comply with the regulatory requirements in 49 CFR 193. Volume 2 is intended to replace a series of guidance documents that were previously developed and issued by staff to assist in the preparation and review of LNG applications. Specifically, Volume 2 is meant to replace Draft Guidance on Resource Report 11 and 13 issued on December 15, 2005, Draft Preferred Format Submittal Guidance issued on April 12, 2006, and Draft FERC Seismic Design Guidelines and Data Submittal Requirements for LNG Facilities issued on January 23, 2007. The previous versions of these documents should be considered obsolete.

Interested parties can help us determine the appropriate updates and improvements by providing comments or suggestions that focus on the specific sections of the Guidance Manual requiring clarification, updates to reflect current laws and regulations, or additional information that should be included in each resource report. The more specific your comments, the more useful they will be. A detailed explanation of the rationale underlying your suggested modifications and/or any references to scientific studies associated with your comments would greatly help us with this process.

For your convenience, there are three methods you can use to submit your comments to the Commission. In all instances, please reference the docket number (AD16-3-000) with your submission. The Commission encourages electronic filing of comments and has expert staff available to assist you at (202) 502-8258 or efiling@ferc.gov.

(1) You can file your comments electronically using the eComment feature on the Commission's Web site (www.ferc.gov) under the link to Documents and Filings. This is an easy method for interested persons to submit brief, text-only comments;

(2) You can file your comments electronically using the eFiling feature on the Commission's Web site (www.ferc.gov) under the link to Documents and Filings. With eFiling, you can provide comments in a variety of formats by attaching them as a file with your submission. New eFiling users must first create an account by clicking on “eRegister.” You must select the type of filing you are making, select “Comment on a Filing”; or

(3) You can file a paper copy of your comments by mailing them to the following address: Kimberly D. Bose, Secretary, Federal Energy Regulatory Commission, 888 First Street NE., Room 1A, Washington, DC 20426.

All of the information related to the proposed updates to the Guidance Manual and submitted comments can be found on the FERC Web site (www.ferc.gov) using the eLibrary link. Click on the eLibrary link, click on “General Search” and enter the docket number, excluding the last three digits in the Docket Number field (i.e., AD16-3). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: December 18, 2015.
Nathaniel J. Davis, Sr.,
Deputy Secretary.

[FR Doc. 2015-32398 Filed 12-23-15; 8:45 am]

BILLING CODE 6717-01-P